DEPARTMENT OF ENERGY

Federal Energy Regulatory Commission

[Docket No. CP00-59-002]

Petal Gas Storage, L.L.C.; Notice of Compliance Filing

February 28 , 2002.

Take notice that on February 8, 2002, Petal Gas Storage L.L.C. (Petal), tendered for filing the Tariff Sheets listed Appendix A attached to the filing. Petal requests that these sheets be made effective March 15, 2002.

Petal states that the tariff sheets are being filed in compliance with the Commission's September 15, 2000 Letter Order (September 15 Order) issued in the underlying certificate proceeding in Docket Nos. CP00-59-000 and CP00-59-001. The September 15 Order granted Petal's request to construct storage-related facilities on, and adjacent to, Petal's salt dome storage facilities, and approved Petal's tariff changes, subject to Petal filing actual tariff sheets that conform to its pro forma sheets when filing to implement the expanded service.

Petal states that copies of the filing have been mailed to all affected customers and state regulatory commissions.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-5284 Filed 3-5-02; 8:45 am]

BILLING CODE 6717-01-P